Proclamation 10224 of June 1, 2021

National Homeownership Month, 2021

By the President of the United States of America

A Proclamation

For millions of Americans, homeownership is the cornerstone of a life with security, with dignity, and with hope. A home is more than four walls and a roof; it is a place where we can celebrate triumphs and weather the trials of life. A place where we can watch our families grow and prosper. A place that helps us build wealth we can pass down to our children and our grandchildren.

The aspiration to own a home is connected deeply to the American dream. It has driven generations of Americans, in search of a place to call one's own.

Today, for people across the United States, the desire to own a home burns as brightly as it ever has. Yet the stark reality is that, for too many, the dream of homeownership is becoming more difficult to realize and sustain. This is especially true in the wake of the economic devastation inflicted by the COVID-19 pandemic.

We also know that people of color continue to face discrimination in our housing market—when trying to secure mortgages, to have their homes appraised, and to live in neighborhoods where their families can thrive. In recent years, the homeownership gap between Black and white families reached its widest point since 1968, when banks could still legally discriminate against borrowers based on the color of their skin.

This is economically and morally wrong, and it is why, as President, I have made it a central priority to expand stability and opportunity within our housing market. On my first day in office, I took executive action to extend foreclosure moratoriums for nearly 11 million households with mortgages guaranteed by the Federal Government. My Administration introduced and passed the American Rescue Plan, which will deliver nearly $10 billion in relief for homeowners who have fallen behind on their mortgage payments during the pandemic. And to create greater opportunities for homeownership moving forward, we have proposed the American Jobs Plan—which can spur the construction and rehabilitation of more than 500,000 homes for buyers of more modest means.

The Department of Housing and Urban Development will continue to advance affordable and sustainable homeownership throughout our Nation. This will require that we help more hardworking Americans purchase their first homes, increase access to credit and mortgage insurance for borrowers of color, and fully enforce the 1968 Fair Housing Act—to root out systemic discrimination from our housing market and break down the unjust barriers that prevent too many Americans from buying a home.

NOW, THEREFORE, I, JOSEPH R. BIDEN JR., President of the United States of America, by virtue of the authority vested in me by the Constitution and the laws of the United States, do hereby proclaim June 2021 as National Homeownership Month. I call upon the people of this Nation to recognize the enduring value of homeownership and to recommit ourselves to helping more Americans realize that dream.

IN WITNESS WHEREOF, I have hereunto set my hand this first day of June, in the year of our Lord two thousand twenty-one, and of the Independence of the United States of America the two hundred and forty-fifth.

[FR Doc. 2021-11977

Filed 6-4-21; 8:45 am]

Billing code 3295-F1-P